DEPARTMENT OF ENERGY

Federal Energy Regulatory Commission

Combined Notice of Filings #1

Take notice that the Commission received the following exempt wholesale generator filings:

Docket Numbers: EG15-54-000.

Applicants: Alexander Wind Farm, LLC.

Description: Notice of Self-Certification of Exempt Wholesale Generator Status of Alexander Wind Farm, LLC.

Filed Date: 2/24/15.

Accession Number: 20150224-5229.

Comments Due: 5 p.m. ET 3/17/15.

Take notice that the Commission received the following electric rate filings:

Docket Numbers: ER13-1079-002; ER12-348-003.

Applicants: Mercuria Commodities Canada Corporation, Mercuria Energy America, Inc.

Description: Updated Market Power Analysis for the Southeast Region of Mercuria Commodities Canada Corporation, et al.

Filed Date: 2/25/15.

Accession Number: 20150225-5093.

Comments Due: 5 p.m. ET 3/18/15.

Docket Numbers: ER15-1095-000.

Applicants: Arthur Kill Power LLC.

Description: Compliance filing per 35: Market-Based Rate Tariff Revisions to be effective 2/26/2015.

Filed Date: 2/25/15.

Accession Number: 20150225-5094.

Comments Due: 5 p.m. ET 3/18/15.

Docket Numbers: ER15-1096-000.

Applicants: Astoria Gas Turbine Power LLC.

Description: Compliance filing per 35: Market-Based Rate Tariff Revisions to be effective 2/26/2015.

Filed Date: 2/25/15.

Accession Number: 20150225-5095.

Comments Due: 5 p.m. ET 3/18/15.

Docket Numbers: ER15-1097-000.

Applicants: Conemaugh Power LLC.

Description: Compliance filing per 35: Market-Based Rate Tariff Revisions to be effective 2/26/2015.

Filed Date: 2/25/15.

Accession Number: 20150225-5096.

Comments Due: 5 p.m. ET 3/18/15.

Docket Numbers: ER15-1098-000.

Applicants: Connecticut Jet Power LLC.

Description: Compliance filing per 35: Market-Based Rate Tariff Revisions to be effective 2/26/2015.

Filed Date: 2/25/15.

Accession Number: 20150225-5097.

Comments Due: 5 p.m. ET 3/18/15.

Docket Numbers: ER15-1099-000.

Applicants: Devon Power LLC.

Description: Compliance filing per 35: Market-Based Rate Tariff Revisions to be effective 2/26/2015.

Filed Date: 2/25/15.

Accession Number: 20150225-5099.

Comments Due: 5 p.m. ET 3/18/15.

Docket Numbers: ER15-1100-000.

Applicants: Dunkirk Power LLC.

Description: Compliance filing per 35: Market-Based Rate Tariff Revisions to be effective 2/26/2015.

Filed Date: 2/25/15.

Accession Number: 20150225-5100.

Comments Due: 5 p.m. ET 3/18/15.

Docket Numbers: ER15-1101-000.

Applicants: GenConn Devon LLC.

Description: Compliance filing per 35: Market-Based Rate Tariff Revisions to be effective 2/26/2015.

Filed Date: 2/25/15.

Accession Number: 20150225-5102.

Comments Due: 5 p.m. ET 3/18/15.

Docket Numbers: ER15-1102-000.

Applicants: GenConn Middletown LLC.

Description: Compliance filing per 35: Market-Based Rate Tariff Revisions to be effective 2/26/2015.

Filed Date: 2/25/15.

Accession Number: 20150225-5104.

Comments Due: 5 p.m. ET 3/18/15.

Docket Numbers: ER15-1103-000.

Applicants: Huntley Power LLC.

Description: Compliance filing per 35: Market-Based Rate Tariff Revisions to be effective 2/26/2015.

Filed Date: 2/25/15.

Accession Number: 20150225-5106.

Comments Due: 5 p.m. ET 3/18/15.

Docket Numbers: ER15-1104-000.

Applicants: Indian River Power LLC.

Description: Compliance filing per 35: Market-Based Rate Tariff Revisions to be effective 2/26/2015.

Filed Date: 2/25/15.

Accession Number: 20150225-5108.

Comments Due: 5 p.m. ET 3/18/15.

Docket Numbers: ER15-1105-000.

Applicants: Keystone Power LLC.

Description: Compliance filing per 35: Market-Based Rate Tariff Revisions to be effective 2/26/2015.

Filed Date: 2/25/15.

Accession Number: 20150225-5112.

Comments Due: 5 p.m. ET 3/18/15.

Docket Numbers: ER15-1106-000.

Applicants: Middletown Power LLC.

Description: Compliance filing per 35: Market-Based Rate Tariff Revisions to be effective 2/26/2015.

Filed Date: 2/25/15.

Accession Number: 20150225-5115.

Comments Due: 5 p.m. ET 3/18/15.

Docket Numbers: ER15-1107-000.

Applicants: Midwest Generation LLC.

Description: Compliance filing per 35: Market-Based Rate Tariff Revisions to be effective 2/26/2015.

Filed Date: 2/25/15.

Accession Number: 20150225-5119.

Comments Due: 5 p.m. ET 3/18/15.

Docket Numbers: ER15-1108-000.

Applicants: Montville Power LLC.

Description: Compliance filing per 35: Market-Based Rate Tariff Revisions to be effective 2/26/2015.

Filed Date: 2/25/15.

Accession Number: 20150225-5124.

Comments Due: 5 p.m. ET 3/18/15.

Docket Numbers: ER15-1109-000.

Applicants: NEO Freehold-Gen LLC.

Description: Compliance filing per 35: Market-Based Rate Tariff Revisions to be effective 2/26/2015.

Filed Date: 2/25/15.

Accession Number: 20150225-5134.

Comments Due: 5 p.m. ET 3/18/15.

Docket Numbers: ER15-1110-000.

Applicants: NRG Energy Center Dover LLC.

Description: Compliance filing per 35: Market-Based Rate Tariff Revisions to be effective 2/26/2015.

Filed Date: 2/25/15.

Accession Number: 20150225-5136.

Comments Due: 5 p.m. ET 3/18/15.

Docket Numbers: ER15-1111-000.

Applicants: NRG Energy Center Paxton LLC.

Description: Compliance filing per 35: Market-Based Rate Tariff Revisions to be effective 2/26/2015.

Filed Date: 2/25/15.

Accession Number: 20150225-5137.

Comments Due: 5 p.m. ET 3/18/15.

Docket Numbers: ER15-1112-000.

Applicants: NRG Power Midwest LP.

Description: Compliance filing per 35: Market-Based Rate Tariff Revisions to be effective 2/26/2015.

Filed Date: 2/25/15.

Accession Number: 20150225-5139.

Comments Due: 5 p.m. ET 3/18/15.

Docket Numbers: ER15-1113-000.

Applicants: NRG Rockford LLC.

Description: Compliance filing per 35: Market-Based Rate Tariff Revisions to be effective 2/26/2015.

Filed Date: 2/25/15.

Accession Number: 20150225-5142.

Comments Due: 5 p.m. ET 3/18/15.

Docket Numbers: ER15-1114-000.

Applicants: NRG Rockford II LLC.

Description: Compliance filing per 35: Market-Based Rate Tariff Revisions to be effective 2/26/2015.

Filed Date: 2/25/15.

Accession Number: 20150225-5145.

Comments Due: 5 p.m. ET 3/18/15.

Docket Numbers: ER15-1115-000.

Applicants: Oswego Harbor Power LLC.

Description: Compliance filing per 35: Market-Based Rate Tariff Revisions to be effective 2/26/2015.

Filed Date: 2/25/15.

Accession Number: 20150225-5147.

Comments Due: 5 p.m. ET 3/18/15.

Docket Numbers: ER15-1116-000.

Applicants: Vienna Power LLC.

Description: Compliance filing per 35: Market-Based Rate Tariff Revisions to be effective 2/26/2015.

Filed Date: 2/25/15.

Accession Number: 20150225-5149.

Comments Due: 5 p.m. ET 3/18/15.

Docket Numbers: ER15-1117-000.

Applicants: NRG Chalk Point LLC.

Description: Compliance filing per 35: Market-Based Rate Tariff Revisions to be effective 2/26/2015.

Filed Date: 2/25/15.

Accession Number: 20150225-5150.

Comments Due: 5 p.m. ET 3/18/15.

Docket Numbers: ER15-1118-000.

Applicants: NRG Potomac River LLC.

Description: Compliance filing per 35: Market-Based Rate Tariff Revisions to be effective 2/26/2015.

Filed Date: 2/25/15.

Accession Number: 20150225-5151.

Comments Due: 5 p.m. ET 3/18/15.

Take notice that the Commission received the following public utility holding company filings:

Docket Numbers: PH15-11-000.

Applicants: New Jersey Resources Corporation.

Description: New Jersey Resources Corporation submits FERC 65-A Material Change in Facts of Exemption Notification.

Filed Date: 2/24/15.

Accession Number: 20150224-5260.

Comments Due: 5 p.m. ET 3/17/15.

Docket Numbers: PH15-12-000.

Applicants: Energy Transfer Equity, L.P.

Description: Energy Transfer Equity, L.P. submits FERC 65-A Exemption Notification.

Filed Date: 2/24/15.

Accession Number: 20150224-5263.

Comments Due: 5 p.m. ET 3/17/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2015.
Nathaniel J. Davis, Sr.,
Deputy Secretary.

[FR Doc. 2015-04369 Filed 3-2-15; 8:45 am]

BILLING CODE 6717-01-P